FOREIGN CLAIMS SETTLEMENT COMMISSION

[F.C.S.C. Meeting and Hearing Notice No. 6-11]

Sunshine Act Meeting

The Foreign Claims Settlement Commission, pursuant to its regulations (45 CFR part 503.25) and the Government in the Sunshine Act (5 U.S.C. 552b), hereby gives notice in regard to the scheduling of oral hearings, as follows:

Thursday, July 28, 2011: 10 a.m. Claim No. LIB-II-125, Claim No. LIB-II-126 and Claim No. LIB-II-127; 1 p.m. Claim No. LIB-I-044; 1:45 p.m. Claim No. LIB-I-049; 2:30 p.m. Claim No. LIB-II-046; 3:30 p.m. Claim No. LIB-I-037.

Status: Open.

All meetings are held at the Foreign Claims Settlement Commission, 600 E Street, NW., Washington, DC. Requests for information, or advance notices of intention to observe an open meeting, may be directed to: Judith H. Lock, Executive Officer, Foreign Claims Settlement Commission, 600 E Street, NW., Suite 6002, Washington, DC 20579. Telephone: (202) 616-6975.

Judith H. Lock,
Executive Officer.

[FR Doc. 2011-18198 Filed 7-15-11; 11:15 am]

BILLING CODE 4410-BA-P